FEDERAL COMMUNICATIONS COMMISSION

Radio Broadcasting Services; AM or FM Proposals To Change the Community of License

AGENCY: Federal Communications Commission.

ACTION: Notice.

DATES: The agency must receive comments on or before August 19, 2019.

ADDRESSES: Federal Communications Commission, 445 12th Street SW, Washington, DC 20554.

FOR FURTHER INFORMATION CONTACT: Rolanda F. Smith, 202-418-2054.

SUPPLEMENTARY INFORMATION: The following applicants filed AM or FM proposals to change the community of license: COCHISE MEDIA LICENSES LLC, KFMR(FM), Fac. ID No. 198760, Channel 247C3, To CENTRAL HEIGHTS-MIDL, AZ, From VIRDEN, NM, File No. BPH-20190423ABE; POLNET COMMUNICATIONS, LTD, WRXB(AM), 1590 kHz, To PALM RIVER-CLAIR MEL, FL, From ST. PETERSBURG BEACH, FL, File No. BP-20190528ABA; and COCHISE BROADCASTING LLC, KFMM(FM), Fac. ID No. 72368, Channel 256C1, To VIRDEN, NM, From THATCHER, AZ, File No. BPH-20190423ABD.

The full text of these applications is available for inspection and copying during normal business hours in the Commission's Reference Center, 445 12th Street SW, Washington, DC 20554 or electronically via the Media Bureau's Consolidated Data Base System, http://licensing.fcc.gov/prod/cdbs/pubacc/prod/app_sear.htm.

Federal Communications Commission.
Nazifa Sawez,
Assistant Chief, Audio Division, Media Bureau.

[FR Doc. 2019-12896 Filed 6-17-19; 8:45 am]

BILLING CODE 6712-01-P